DEPARTMENT OF ENERGY

Federal Energy Regulatory Commission

[Project No. 2225-021]

Public Utility District No. 1 of Pend Oreille County, Washington; Notice of Availability of Environmental Assessment

In accordance with the National Environmental Policy Act of 1969 and the Federal Energy Regulatory Commission's (Commission) regulations, 18 CFR part 380 (Order No. 486, 52 FR 47897), the Office of Energy Projects has reviewed the application for amendment to authorize removing Mill Pond Dam by demolishing the dam without building a cofferdam to promote sediment outflow and facilitate sediment transport to the downstream reaches of Sullivan Creek. This is a change from the removal method approved by the Commission in its Order Accepting Surrender of License and Authorizing Disposition of Project Facilities issued March 20, 2013 (142 FERC ¶ 62,232). The project is located on Sullivan Creek near the town of Metaline Falls, Pend Oreille County, Washington. The project occupies federal lands administered by the U.S. Forest Service within the Colville National Forest.

The application, filed with the Commission on January 30, 2017, contains an applicant prepared Supplemental Environmental Assessment in its Exhibit E (pages 13-65). In staff's independent review of the licensee's Exhibit E, staff has decided to adopt the licensee's Supplemental Environmental Assessment and issue it as staff's Environmental Assessment (EA). The EA analyzes the potential environmental impacts of the project plus the proposed mitigation measures and concludes that granting the amendment to licensing would not constitute a major federal action that would significantly affect the quality of the human environment.

A copy of the EA is on file with the Commission and is available for public inspection. The EA and supplement may be viewed on the Commission's Web site at http://www.ferc.gov using the “eLibrary” link. Enter the docket number, excluding the last three digits in the docket number field, to access the document. For assistance, contact FERC Online Support at FERCOnlineSupport@ferc.gov or toll-free at 1-866-208-3676, or for TTY, (202) 502-8659.

A copy of the EA may also be access using this link: https://elibrary.ferc.gov/idmws/common/OpenNat.asp?fileID=14548770.

You may also register online at http://www.ferc.gov/docs-filing/esubscription.asp to be notified via email of new filings and issuances related to this or other pending projects. For assistance, contact FERC Online Support.

All comments on the EA and supplement must be filed by May 12, 2017, and should reference Project No. 2225-021. The Commission strongly encourages electronic filing. Please file comments using the Commission's efiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Kimberly D. Bose, Secretary, Federal Energy Regulatory Commission, 888 First Street NE., Washington, DC 20426.

For further information, contact Rebecca Martin at (202) 502-6012 or Rebecca.Martin@ferc.gov.

Dated: April 12, 2017.
Kimberly D. Bose,
Secretary.

[FR Doc. 2017-08001 Filed 4-19-17; 8:45 am]

BILLING CODE 6717-01-P